DEPARTMENT OF STATE

[Public Notice: 9130]

U.S. National Commission for UNESCO Notice of Teleconference Meeting

The U.S. National Commission for UNESCO will hold a conference call on Friday, June 12, 2015, from 11:00 a.m. until 12:00 p.m. Eastern Time. The purpose of the teleconference meeting is to consider the recommendations of the Commission's National Committee for the Intergovernmental Oceanographic Commission (IOC). The call will also be an opportunity to provide an update on recent and upcoming Commission and UNESCO activities. The Commission will accept brief oral comments during a portion of this conference call. The public comment period will be limited to approximately 10 minutes in total, with two minutes allowed per speaker. For more information or to arrange to participate in the conference call, individuals must make arrangements with the Executive Director of the National Commission by June 10.

The National Commission, Washington, DC 20037 may be contacted via email DCUNESCO@state.gov or Telephone (202) 663-0026; Fax (202) 663-0035. The Web site can be accessed at: http://www.state.gov/p/io/unesco/.

Dated: May 6, 2015.
Allison Wright,
Executive Director, U.S. National Commission for UNESCO, Department of State.

[FR Doc. 2015-11458 Filed 5-11-15; 8:45 am]

BILLING CODE 4710-19-P